DEPARTMENT OF TRANSPORTATION

Office of the Secretary

Aviation Proceedings, Agreements Filed the Week Ending June 4, 2004

The following Agreements were filed with the Department of Transportation under the provisions of 49 U.S.C. 412 and 414. Answers may be filed within 21 days after the filing of the application.

Docket Number: OST-2004-17998.

Date Filed: June 1, 2004.

Parties: Members of the International Air Transport Association.

Subject: Mail Vote 375 Resolution 010w, TC3 Africa TC3 Special Amending Resolution, from Phillippines to Africa r1-r3. Intended effective date: 10 June 2004.

Docket Number: OST-2004-18006.

Date Filed: June 3, 2004.

Parties: Members of the International Air Transport Association.

Subject: PTC3 0756 dated 4 June 2004. Mail Vote 381 Resolution 010c Special Passenger, Amending Resolution between Japan and China, (excluding Hong Kong SAR and Macao SAR) r1-r10. Intended effective date 15 July 2004.

Docket Number: OST-2004-18007.

Date Filed: June 3, 2004.

Parties: Members of the International Air Transport Association.

Subject: Mail Vote 378, PTC3 0749 dated 4 June 2004. Resolution 010z Special Passenger Amending Resolution between Chinese Taipei and Japan. Intended effective date 21 June 2004.

Docket Number: OST-2004-18008.

Date Filed: June 3, 2004.

Parties: Members of the International Air Transport Association.

Subject: Mail Vote 380, PTC 0750 dated 4 June 2004. Resolution 010b Special Passenger Amending Resolution between China (excluding Hong Kong SAR and Macao SAR) and Russia (in Asia) r1-r5. Intended effective date 22 June 2004.

Docket Number: OST-2004-18009.

Date Filed: June 3, 2004.

Parties: Members of the International Air Transport Association.

Subject: PTC3 0755 dated 4 June 2004, Mail Vote 377 Resolution 010y Special Passenger Amending Resolution between Japan and China, (excluding Hong Kong SAR and Macao SAR) r1-r10. Intended effective date 15 June 2004.

Andrea Jenkins,
Program Manager, Docket Operations, Federal Register Liaison.

[FR Doc. 04-13715 Filed 6-16-04; 8:45 am]

BILLING CODE 4910-62-P